DEPARTMENT OF THE INTERIOR

National Park Service

National Register of Historic Places; Notification of Pending Nominations

Nominations for the following properties being considered for listing in the National Register were received by the National Park Service before June 26, 2004. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by July 23, 2004.

Carol D. Shull,
Keeper of the National Register of Historic Places.

CALIFORNIA

Napa County

First Street Bridge, (Highway Bridges of California MPS) First St. across the Napa R, Napa, 04000774

COLORADO

Denver County

Sheedy Mansion, 1115-1121 Grant St., Denver, 04000780

Huerfano County

Milliken Creek Bridge, (Highway Bridges of California MPS) Trancas St. across Milliken Creek, Napa, 04000775

FLORIDA

Monroe County

Overseas Highway and Railway Bridges (Boundary Increase), Parallel to U.S. 1 (Approx. MM 9.8-72.8), Key Largo, 04000788

KANSAS

Sedgwick County

Bitting Historic District, Generally the 1100 and 1200 Blks of Bitting, Wichita, 04000776

East Douglas Avenue Historic District, Roughly bounded by Topeka, Rock Island, 1st, and English Sts., Wichita, 04000777

Park Place—Fairview Historic District, Roughly Park Place and Fairview Aves. bet. 13th and 17th Sts. and Wellington Place, Wichita, 04000778

Topeka—Emporia Historic District, Roughly N. Topeka and Emporia Aves. bet. 10th and 13th Sts., Wichita, 04000779

KENTUCKY

Anderson County

Lexington Extension of the Louisville Southern Railroad, Eastern Lawrenceburg to Milner, Lawrenceburg, 04000789

Boone County

Burlington Historic District (Boundary Decrease), (Boone County, Kentucky MPS) Portions of Washington, Gallative, Perlate, Temperate, Garrard, Jefferson, Ohio Sts., Nicholas Ave., and Union Sq., Burlington, 04000797

Clark County

Oliver School, 30 Oliver St., Winchester, 04000795

Victory Heights Elementary School, 160 Maryland Ave., Winchester, 04000796

Hart County

Gardner House, farm lane on N side of W. Walker Rd., Northtown, 04000794

Larue County

New Haven Battlefield Site, Lyons Station Rd., New Haven, 04000793

Lincoln County

Richland Farm, 5355 KY 1194, Stanford, 04000792

Metcalfe County

Metcalfe County Jail, Corner of East, Edmonton, 04000791

Taylor County

Tate, Isaac, Farm, Five mi. S of Campbellsville on KY 55, Campbellsville, 04000802

Warren County

Oakland—Freeport Historic District, Vine, Young, Lee, Mills, Rasdall, Church, Main, Oakland, Kelly, Burnett, Oakland-Smiths Grove, Cooke, Grimes and Mansfield St. Oakland, 04000801

Pioneer Log Cabin, Kentucky St., near jct. with University Dr., Bowling Green, 04000790

LOUISIANA

West Carroll Parish

Marsden (16R13), Address Restricted, Delhi, 04000803

MISSOURI

Cass County

Pleasant Hill Downtown Historic District, Approx. bounded by the 200 blk of Cedar St., 100 blk of Lake St., 100-115 Wyoming St. and 101-204 First St., Pleasant Hill, 04000781

Jackson County

Mutual Ice Company Building, 4142-4144 Pennsylvania Ave., Kansas City, 04000783

St. Louis County

Old Webster Historic District, Roughly bounded by Allen Ave., Elm Ave., W. Lockwood Ave. and the Missouri Pacific RR Tracks, Webster Groves, 04000782

St. Louis Independent City Building at 1121-23 Locust St., 1121-23 Locust St., St. Louis (Independent City), 04000785

Harris Teachers College, (St. Louis Public Schools of William B. Ittner MPS (AD)) 1517 South Theresa, St. Louis (Independent City), 04000787

Spool Cotton Co. Building, 1113-15 Locust St., St. Louis (Independent City), 04000786

NEBRASKA

Burt County

Bryant, Edward W. and Rose Folsom, House, Address Restricted, Tekamah, 04000804

Dawes County

Wohlers, Henry, Sr., Homestead, Address Restricted, Crawford, 04000800

Scotts Bluff County

Gering Courier Building, 1428 10th St., Gering, 04000799

Western Public Service Building, 1721 Broadway, Scottsbluff, 04000798

PENNSYLVANIA

Jefferson County

Herpel Brothers Foundry and Machine Shop, 45 W. Main St., Reynoldsville, 04000806

Montgomery County

Sanatoga Union Sunday School, 2341 East High St., Lower Pottsgrove township, 04000805

Westmoreland County

McFarlane, Andrew and Jennie, House, 50 Maus Dr., North Huntingdon, 04000807

RHODE ISLAND

Providence County

Providence Dyeing, Bleaching, Calendring Company, 46, 50, 52, 60 Valley St., 80 Delaine St., Providence, 04000809

Rhode Island Tool Company, 146-148 W. River St., Providence, 04000808

UTAH

San Juan County

Natural Bridges Archeological District, Address Restricted, Blanding, 04000784

WISCONSIN

Juneau County

Shelton, William and Mary, Farmstead, N2397 Cty Hwy K, Seven Mile Creek, 04000810

[FR Doc. 04-15444 Filed 7-7-04; 8:45 am]

BILLING CODE 4312-51-P